DEPARTMENT OF TRANSPORTATION

Federal Aviation Administration

14 CFR Part 71

[Docket No. FAA-2023-0235; Airspace Docket No. 22-ANM-52]

RIN 2120-AA66

Revocation of Segments of V-330 and Establishment T-470 Near Boise, ID

AGENCY: Federal Aviation Administration (FAA), DOT.

ACTION: Notice of proposed rulemaking (NPRM).

SUMMARY: This action proposes to revoke the portion of the Very High Frequency (VHF) Omnidirectional Range (VOR) Federal airway V-330 between the Boise VHF Omnidirectional Range (VOR) Tactical Air Navigation (VORTAC) and the intersection of Liberator VOR 084° radial and Burley VOR 323° radial. This action also proposes to establish United States Area Navigation (RNAV) route T-470. These actions are due to the planned decommissioning of the Liberator ID, VOR (LIA).

DATES: Comments must be received on or before March 24, 2023.

ADDRESSES: Send comments on this proposal to the U.S. Department of Transportation, Docket Operations, 1200 New Jersey Avenue SE, West Building Ground Floor, Room W12-140, Washington, DC 20590; telephone: (800) 647-5527, or (202) 366-9826. You must identify FAA Docket No. FAA-2023-0235; Airspace Docket No. 22-ANM-52 at the beginning of your comments. You may also submit comments through the internet at www.regulations.gov.

FAA Order JO 7400.11G, Airspace Designations and Reporting Points, and subsequent amendments can be viewed online at www.faa.gov/air_traffic/publications/. For further information, you can contact the Rules and Regulations Group, Federal Aviation Administration, 800 Independence Avenue SW, Washington, DC 20591; telephone: (202) 267-8783.

FOR FURTHER INFORMATION CONTACT: Steven Roff, Rules and Regulations Group, Office of Policy, Federal Aviation Administration, 800 Independence Avenue SW, Washington, DC 20591; telephone: (202) 267-8783.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it would modify the airway structure as necessary to preserve the safe and efficient flow of air traffic within the National Airspace System.

Comments Invited

Interested parties are invited to participate in this proposed rulemaking by submitting such written data, views, or arguments as they may desire. Comments that provide the factual basis supporting the views and suggestions presented are particularly helpful in developing reasoned regulatory decisions on the proposal. Comments are specifically invited on the overall regulatory, aeronautical, economic, environmental, and energy-related aspects of the proposal.

Communications should identify both docket numbers (FAA Docket No. FAA-2023-0235; Airspace Docket No. 22-ANM-52 and be submitted to the Docket Management Facility (see ADDRESSES section for address and phone number). You may also submit comments through the internet at www.regulations.gov.

Commenters wishing the FAA to acknowledge receipt of their comments on this action must submit with those comments a self-addressed, stamped postcard on which the following statement is made: “Comments to FAA Docket No. FAA-2023-0235; Airspace Docket No. 22-ANM-52.” The postcard will be date/time stamped and returned to the commenter.

All communications received on or before the specified comment closing date will be considered before taking action on the proposed rule. The proposal contained in this action may be changed in light of comments received. All comments submitted will be available for examination in the public docket both before and after the comment closing date. A report summarizing each substantive public contact with FAA personnel concerned with this rulemaking will be filed in the docket.

Availability of NPRM

An electronic copy of this document may be downloaded through the internet at www.regulations.gov. Recently published rulemaking documents can also be accessed through the FAA's web page at www.faa.gov/air_traffic/publications/airspace_amendments/.

You may review the public docket containing the proposal, any comments received and any final disposition in person in the Dockets Office (see ADDRESSES section for address and phone number) between 9:00 a.m. and 5:00 p.m., Monday through Friday, except Federal holidays. An informal docket may also be examined during normal business hours at the office of the Western Service Center, Federal Aviation Administration, 2200 South 216th St., Des Moines, WA 98198.

Availability and Summary of Documents for Incorporation by Reference

This document proposes to amend FAA Order JO 7400.11G, Airspace Designations and Reporting Points, dated August 19, 2022, and effective September 15, 2022. FAA Order JO 7400.11G is publicly available as listed in the ADDRESSES section of this document. FAA Order JO 7400.11G lists Class A, B, C, D, and E airspace areas, air traffic service routes, and reporting points.

Background

The FAA is decommissioning underutilized navigational aids (NAVAIDS) throughout the National Airspace System (NAS) through the VOR Minimal Operation Network (MON) program. The goal is to transition the NAS to use of Performance-Based Navigation (PBN) through use of the Global Positioning System (GPS) as the primary means of aircraft navigation, retaining a reduced number of ground-based NAVAIDS to provide backup in the event of a loss of GPS. The decommissioning of Liberator VOR is part of this program.

With the planned decommissioning of Liberator VOR, the remaining ground-based coverage in the area is insufficient to enable the continuity of certain segments of V-330. As such, this proposal would result in these unsupported segments being revoked. The segment between the Boise VORTAC and the intersection of the Boise VORTAC 130° radial and Liberator VOR 084° radial requires no mitigation as it shares routing with V-4 and V-253. The establishment of T-470 is proposed to replace the revoked segment between the intersection of the Boise VORTAC 130° and Liberator VOR 084° radials and the intersection of the Liberator VOR 084° radial and the Burley VOR 323° radial. Additionally, T-470 is proposed to continue eastward beyond the intersection of the Liberator VOR 084° radial and the Burley VOR 323° radial. This continuance of T-470 will increase NAS efficiency and aviation safety by providing routing through the Snake River Valley in Idaho and south of the Wind River Range in Wyoming. This routing will allow for lower Minimum Enroute Altitudes and will avoid areas of downslope winds.

The Proposal

V-330: V-330 is currently made up of two separate portions. The first navigates between the Wildhorse, OR, VOR; and the intersection of the Liberator VOR 084° radial and the Burley VOR 323° radial. The second section navigates between the Idaho Falls, ID, VOR; and the Muddy Mountain, WY, VOR. The FAA proposes changes to the first portion. The FAA does not propose changes to the second portion.

In the first portion, the FAA proposes to revoke two contiguous segments. The first is the segment between the Boise VORTAC and the intersection of the Boise VORTAC 130° radial and Liberator VOR 084° radial. The second is between the intersection of the Boise VORTAC 130° radial and Liberator VOR 084° radial and the intersection of the Liberator VOR 084° radial and the Burley VOR 323° radial.

VOR Federal airways are published in paragraph 6010(a) of FAA Order JO 7400.11G dated August 19, 2022 and effective September 15, 2022, which is incorporated by reference in 14 CFR 71.1. The V-330 airway listed in this document would be modified subsequently in FAA Order JO 7400.11.

The FAA is proposing an amendment to 14 CFR part 71 to establish RNAV T-route T-470 in the vicinity of Boise, ID.

The new route is described as follows:

T-470: RNAV route T-470 extends between ALKAL, ID; KINZE, ID; VIPUC, WY; IDECA, WY; DEDNE, WY; DEKKR, WY; SWEAT, WY; and CHOMP, WY.

FAA Order JO 7400.11, Airspace Designations and Reporting Points, is published yearly and effective on September 15.

Regulatory Notices and Analyses

The FAA has determined that this proposed regulation only involves an established body of technical regulations for which frequent and routine amendments are necessary to keep them operationally current. It, therefore: (1) is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that will only affect air traffic procedures and air navigation, it is certified that this proposed rule, when promulgated, will not have a significant economic impact on a substantial number of small entities under the criteria of the Regulatory Flexibility Act.

Environmental Review

This proposal will be subject to an environmental analysis in accordance with FAA Order 1050.1F, “Environmental Impacts: Policies and Procedures” prior to any FAA final regulatory action.

List of Subjects in 14 CFR Part 71

Airspace, Incorporation by reference, Navigation (air).

The Proposed Amendment

In consideration of the foregoing, the Federal Aviation Administration proposes to amend 14 CFR part 71 as follows:

PART 71—DESIGNATION OF CLASS A, B, C, D, AND E AIRSPACE AREAS; AIR TRAFFIC SERVICE ROUTES; AND REPORTING POINTS

1. The authority citation for 14 CFR part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of FAA Order JO 7400.11G, Airspace Designations and Reporting Points, dated August 19, 2022, and effective September 15, 2022, is amended as follows:

Paragraph 6010(a) Domestic VOR Federal Airways.

* * * * *

V-330 [Amended]

From Wildhorse, OR; to Boise, ID. From Idaho Falls, ID; Jackson, WY; Dunoir, WY; Riverton, WY; to Muddy Mountain, WY.

* * * * *

Paragraph 6011 United States Area Navigation Routes.

* * * * *

* * * * *
T-470 ALKAL WP, ID TO CHOMP WP, WY
ALKAL, ID | Fix | (Lat. 43°00′58.35″ N, long. 115°19′41.26″ W)
KINZE, ID | Fix | (Lat. 43°04′51.80″ N, long. 114°23′19.23″ W)
VIPUC, WY | Fix | (Lat. 43°21′09.64″ N, long. 112°14′44.08″ W)
IDECA, WY | Fix | (Lat. 42°51′31.06″ N, long. 110°16′25.75″ W)
DEDNE, WY | WP | (Lat. 42°30′56.06″ N, long. 109°35′23.93″ W)
DEKKR, WY | WP | (Lat. 42°21′25.98″ N, long. 109°02′18.06″ W)
SWEAT, WY | Fix | (Lat. 42°26′35.02″ N, long. 108°27′10.31″ W)
CHOMP, WY | Fix | (Lat. 42°36′23.25″ N, long. 106°45′30.94″ W)
* * * * *

Issued in Washington, DC, on February 1, 2023.
Brian Konie,
Acting Manager, Airspace Rules and Regulations.

[FR Doc. 2023-02463 Filed 2-6-23; 8:45 am]

BILLING CODE 4910-13-P